DEPARTMENT OF LABOR

Employment and Training Administration

[TA-W-81,387]

Eastman Kodak Company, IPS—Dayton Location, Including On-Site Leased Workers From Adecco, Dayton, Ohio; Notice of Negative Determination on Reconsideration

On March 2, 2012, the Department of Labor (Department) initiated an investigation in response to a Trade Adjustment Assistance (TAA) petition filed on behalf of workers and former workers of Eastman Kodak Company, IPS-Dayton Location, including on-site leased workers from Adecco, Dayton, Ohio (hereafter referred to as “Eastman Kodak-IPS-Dayton”). On May 18, 2012, the Department denied the petition for group eligibility to apply for TAA. The Department's Notice of negative determination was published in the Federal Register on June 6, 2012 (77 FR 33494).

On August 1, 2012, the Department issued a Notice of Affirmative Determination Regarding Application for Reconsideration, applicable to Eastman Kodak-IPS-Dayton. The Department's Notice of affirmative determination was published in the Federal Register on August 14, 2012 (77 FR 48549).

On March 19, 2013, the Department issued a Notice of Termination of Reconsideration Investigation to workers and former workers of Eastman Kodak-IPS-Dayton (TA-W-81,387) which stated that the worker group on whose behalf the request for reconsideration was filed is eligible to apply for TAA under the amended certification for TA-W-74,813A. The Department's Notice of termination of reconsideration investigation was published in the Federal Register on April 9, 2013 (78 FR 21155).

On June 21, 2013, the Department issued a Notice of Termination of Certification applicable to workers and former workers eligible to apply for TAA under TA-W-74,813A. The Department's Notice of Termination of Certification was published in the Federal Register on July 5, 2013 (78 FR 40507). In the Notice of Termination of Certification, the Department stated that the reconsideration investigation of TA-W-81,387 would be re-opened and a determination on reconsideration would be issued accordingly.

During the re-opened reconsideration investigation, the Department contacted the workers who filed the initial petition for information and received additional information from one of the petitioners.

The petition alleges that production of printers shifted from the Dayton, Ohio facility to a foreign country. In an attachment to the petition, the petitioners state that “a few years back our facility . . . shipped the manufacture of . . . fluid systems and controllers to . . . China”; that “in 2010 a large portion of the print head refurbishment for the 4″ (four inch) product line was shipped to . . . China”; that “all of the printed circuit board production and testing was moved to China”; that a “portion of the new product under development (Stream) was moved to Mexico for manufacture” in 2011; that people from Malaysia spent months in the fall of 2011 “to learn the processes of manufacture so equipment can be sent to their facility in Malaysia”; and that “production of the new Stream product is to be done in Malaysia.”

During the re-opened reconsideration investigation, a former worker stated that separations at the Dayton, Ohio facility were due to the shift in production to China and/or Mexico; that production of “legacy” products were shifted to a facility in China that builds cameras and desktop printers; that the shift of production to China also resulted in reduced need for “testing and repair of new build circuit boards and electronic assembly”; that production of ink jet print systems and the “Four Inch” product line were shifted to China; and that, in April 2012, three of the remaining workers were separated “because the remaining repair work was shifted to a third party company in the Dayton area.”

During the re-opened reconsideration investigation, the Department obtained updated information from Eastman Kodak Company regarding operations at the Dayton, Ohio facility and responses to the afore-mentioned allegations.

Based on information obtained during the re-opened reconsideration investigation, the Department determines that while there was some production shift abroad in 2006 to 2008, no such shift occurred in 2012 and 2013, and that the shift which occurred during 2006 to 2008 did not contribute to worker separations at the Dayton, Ohio facility in 2012 and 2013.

Rather, information obtained during the reconsideration investigation confirmed that worker separations at the Dayton, Ohio facility in 2012 and 2013 have been part of bankruptcy-related activities, including restructuring and domestic outsourcing of some services, and have not resulted in a shift of production abroad.

Conclusion

After careful review of previously-submitted information and information obtained during the reconsideration investigation, I affirm that the requirements of the Act, 19 U.S.C. 2272, have not been met and, therefore, affirm the denial of the petition for group eligibility for Eastman Kodak Company, IPS-Dayton Location, Dayton, Ohio, to apply for adjustment assistance, in accordance with Section 223 of the Act, 19 U.S.C., 2273.

Signed in Washington, DC, this 23rd day of October, 2013.
Del Min Amy Chen,
Certifying Officer, Office of Trade Adjustment Assistance.

[FR Doc. 2013-26497 Filed 11-5-13; 8:45 am]

BILLING CODE 4510-FN-P